DEPARTMENT OF COMMERCE

Patent and Trademark Office

[Docket No. PTO-C-2020-0044]

Development of a National Consumer Awareness Campaign on Combating the Trafficking in Counterfeit and Pirated Products

AGENCY: The United States Patent and Trademark Office, Department of Commerce.

ACTION: Request for comments; reopening of comment period.

SUMMARY: The United States Patent and Trademark Office (USPTO or Office) published a request for comments in the Federal Register on November 17, 2020, seeking information from stakeholders, including, but not limited to, intellectual property rights holders, online third-party marketplaces, third-party intermediaries, other private sector stakeholders, other entities with experience in public-private awareness campaigns, and applicable government agencies on the “Development of a National Consumer Awareness Campaign on Combating the Trafficking in Counterfeit and Pirated Products” as a public-private partnership. Through this notice, the USPTO is reopening the period for public comment until March 12, 2021.

DATES: Comment date: Written comments must be received on or before March 12, 2021.

ADDRESSES: You may submit comments and responses to the questions below by one of the following methods:

(a) Electronic Submissions: Submit all electronic comments via the Federal e-Rulemaking Portal at www.regulations.gov (at the homepage, enter “PTO-C-2020-0044” in the “Search” box, click the “Comment Now!” icon, complete the required fields, and enter or attach your comments). The materials in the docket will not be edited to remove identifying or contact information, and the USPTO cautions against including any information in an electronic submission that the submitter does not want publicly disclosed. Attachments to electronic comments will be accepted in Microsoft Word or Excel or Adobe PDF formats only. Comments containing references to studies, research, and other empirical data that are not widely published should include copies of the referenced materials. Please do not submit additional materials. If you want to submit a comment with business confidential information that you do not wish to be made public, submit the comment as a written/paper submission in the manner detailed below.

(b) Written/Paper Submissions: Send all written/paper submissions to: United States Patent and Trademark Office, Mail Stop OPIA, P.O. Box 1450, Alexandria, Virginia 22314. Submission packaging should clearly indicate that materials are responsive to Docket No. PTO-C-2020-0044, Office of Policy and International Affairs, Comment Request; Development of a National Consumer Awareness Campaign on Combating the Trafficking in Counterfeit and Pirated Products.

Submissions of Business Confidential Information: Any submissions containing business confidential information must be delivered in a sealed envelope marked “confidential treatment requested” to the address listed above. Submitters should provide an index listing the document(s) or information they would like the USPTO to withhold. The index should include information such as numbers used to identify the relevant document(s) or information, document title and description, and relevant page numbers and/or section numbers within a document. Submitters should provide a statement explaining their grounds for objecting to the disclosure of the information to the public as well. The USPTO also requests that submitters of business confidential information include a non-confidential version (either redacted or summarized) of those confidential submissions that will be available for public viewing and posted on www.regulations.gov. In the event that the submitter cannot provide a non-confidential version of its submission, the USPTO requests that the submitter post a notice in the docket stating that it has provided the USPTO with business confidential information. Should a submitter fail to either docket a non-confidential version of its submission or post a notice that business confidential information has been provided, the USPTO will note the receipt of the submission on the docket with the submitter's organization or name (to the degree permitted by law) and the date of submission.

FOR FURTHER INFORMATION CONTACT: Charisma Hampton, USPTO, Office of Policy and International Affairs, at charisma.hampton@uspto.gov. Please direct media inquiries to the Office of the Chief Communications Officer, USPTO, at 571-272-8400.

Request for Information: On November 17, 2020, the USPTO published a notice in the Federal Register requesting public input on the establishment of a national consumer awareness campaign designed to educate consumers on the direct and indirect costs and risks of counterfeit and pirated goods. See Request for Comments on the Development of a National Consumer Awareness Campaign on Combating the Trafficking in Counterfeit and Pirated Products, 85 FR 73264 (Nov. 17, 2020). In that notice, the USPTO requested information from interested stakeholders, including, but not limited to, intellectual property rights holders affected by the sale of counterfeit goods offered through e-commerce platforms, online third-party marketplaces, third-party intermediaries, other private sector stakeholders, other entities with experience in public-private awareness campaigns, and applicable government agencies, in accordance with the call to action in the Department of Homeland Security's January 24, 2020, Report to the President of the United States titled “Combating Trafficking in Counterfeit and Pirated Goods.”

To assist in gathering public input, the USPTO published questions and sought all input relevant to the development of guidelines, action plans, strategies, and best practices for establishing a public-private national consumer awareness campaign designed to educate consumers on the direct and indirect costs and risks of counterfeit and pirated goods.

Specifically, in that earlier notice, the USPTO sought the following types of information utilized or under development by any public or private entity:

(1) Educational curricula identifying direct and indirect harms associated with sales of counterfeit and pirated products

(2) Strategies to ensure consumers make informed purchasing decisions

(3) Public service announcements targeted to social media users

(4) Methods to identify false and misleading information on e-commerce pages

(5) Alerts for high-risk products and automated warnings describing health impacts

(6) “Red flag” indicators for suspicious listings on e-commerce platforms

(7) Incentives to empower consumers to participate in monitoring, detecting, and informing platforms and users of counterfeits

The notice requested public comments on or before January 4, 2021.

Through this notice, the USPTO is reopening the period for public comment until March 12, 2021, to give interested members of the public additional time to submit comments and provide information on the same topics. All other information and instructions to commenters provided in the November 17, 2020, notice remain unchanged. Previously submitted comments do not need to be resubmitted.

Andrew Hirshfeld,
Commissioner for Patents, Performing the Functions and Duties of the Under Secretary of Commerce for Intellectual Property and Director of the United States Patent and Trademark Office.

[FR Doc. 2021-02724 Filed 2-9-21; 8:45 am]

BILLING CODE 3510-16-P